POSTAL SERVICE

Privacy Act of 1974; System of Records

AGENCY: Postal Service®.

ACTION: Notice of a modified system of records.

SUMMARY: The United States Postal Service® (USPS®) proposes revising a General Privacy Act System of Records (SOR). These updates are being made to support the implementation of quick customer experience surveys to be conducted at the end of retail Post Office customer visits.

DATES: These revisions will become effective without further notice on February 3, 2023 unless responses to comments received on or before that date result in a contrary determination.

ADDRESSES: Comments may be submitted via email to the Privacy and Records Management Office, United States Postal Service Headquarters (uspsprivacyfedregnotice@usps.gov). To facilitate public inspection, arrangements to view copies of any written comments received will be made upon request.

FOR FURTHER INFORMATION CONTACT: Janine Castorina, Chief Privacy and Records Management Officer, Privacy and Records Management Office, at 202-268-3069 or (uspsprivacyfedregnotice@usps.gov).

SUPPLEMENTARY INFORMATION: This notice is in accordance with the Privacy Act requirement that agencies publish their systems of records in the Federal Register when there is a revision, change, or addition, or when the agency establishes a new system of records. The Postal Service has determined that General Privacy Act SOR, USPS 100.600 Personnel Research Records, should be revised to support the implementation of quick customer experience surveys conducted at retail Post Office locations.

I. Background

The Retail Experience team at USPS Headquarters is sponsoring the implementation of quick customer experience surveys administered on customer display units (CDUs) in retail Post Office locations. The anonymous customer survey will consist of one question that will be presented to the customer immediately after the retail customer visit is completed. Participation by the customer in the survey is voluntary, and a set of four to five questions will be rotated randomly across transactions and displayed to the customer at the end of their retail visit.

Upon completion, the anonymous customer survey will create a record in the response file that links employee information and the retail customer visit to the quick customer experience survey results. The employee information captured that is associated with the survey is the Employee Identification Number (EIN) of the employee who performed the transaction during the customer visit.

II. Rationale for Changes to USPS Privacy Act Systems of Records

The Postal Service is proposing to modify USPS SOR 100.600 Personnel Research Records to support the implementation of quick customer experience surveys conducted in retail Post Office locations that link the Employee Identification Number (EIN) of the employee who performed the customer transaction during the Post Office visit to anonymous customer survey responses.

The Postal Service is proposing the following modifications to USPS SOR 100.600 Personnel Research Records in the summary of changes listed below.

• Added one new Purpose—#4

• Modified Categories of Individuals #1 to include “USPS employees”

• Added one new Retention Period—#3

III. Description of the Modified System of Records

Pursuant to 5 U.S.C. 552a(e)(11), interested persons are invited to submit written data, views, or arguments on this proposal. A report of the proposed revisions has been sent to Congress and to the Office of Management and Budget for their evaluations. The Postal Service does not expect this amended system of record to have any adverse effect on individual privacy rights. USPS SOR 100.600 Personnel Research Records is provided below in its entirety.

SYSTEM NAME AND NUMBER:

USPS 100.600 Personnel Research Records.

SECURITY CLASSIFICATION:

None.

SYSTEM LOCATION:

USPS Headquarters, Integrated Business Solutions Services Centers, and contractor sites.

SYSTEM MANAGER(S):

Vice President, Human Resources, United States Postal Service, 475 L'Enfant Plaza SW, Washington, DC 20260-4135.

AUTHORITY FOR MAINTENANCE OF THE SYSTEM:

39 U.S.C. 401, 410, 1001, and 1005.

PURPOSE(S) OF THE SYSTEM:

1.To support research and development efforts on personnel assessment instruments, recruitment efforts, workforce analysis, and evaluation of Human Resource management practices.

2. To assess the impact of selection decisions on applicants in race, ethnicity, sex, tenure, age, veteran status, and disability categories.

3. To facilitate and support marketing initiatives, advertising campaigns, brand strategy, strategic customer programs, customer experience with products and services, including call centers, and innovation and product improvement development.

4. To create a record in the survey responses file that links Employee Identification Number (EIN) and retail customer visits to quick customer experience surveys results that are administered on customer display units in retail Post Office locations.

CATEGORIES OF INDIVIDUALS COVERED BY THE SYSTEM:

1. USPS employees, potential applicants for USPS employment, applicants for USPS employment, USPS employee applicants for reassignment and/or promotion, employees whose work records or solicited responses are used in research projects, and former USPS employees.

2. Employees who voluntarily respond to direct marketing messages, respond to surveys, voluntarily participate in focus groups, interviews, diaries, observational studies, prototype assessments, and A/B comparison tests.

CATEGORIES OF RECORDS IN THE SYSTEM:

1. Applicant, potential applicant with candidate profile, and employee information: Name, Social Security Number, Candidate Identification Number, Employee Identification Number (EIN) or respondent identification code, place of birth, date of birth, age, postal assignment or vacancy/posting information, work contact information, home address and personal phone number(s), personal email address, finance number(s), title, level, duty location, and pay location.

2. Personnel research information: Records related to race, ethnicity, sex, tenure, age, veteran status, and disability status (only if volunteered by the individual); research project identifiers; and other information pertinent to personnel research.

3. Survey data: employee perception, feelings, habits, past behaviors, preferences, recommended improvements, experiences with customers, ownership, and hypothetical future scenarios.

RECORD SOURCE CATEGORIES:

USPS employees, former employees, applicants, and potential applicants with candidate profiles who provide information to personnel research programs and other systems of records.

ROUTINE USES OF RECORDS IN THE SYSTEM, INCLUDING CATEGORIES OF USERS AND THE PURPOSES OF SUCH USES:

Standard routine uses 1 through 9 apply.

POLICIES AND PRACTICES FOR STORAGE OF RECORDS:

Automated database, computer storage media, digital files, and paper files.

POLICIES OF PRACTICES FOR RETRIEVAL OF RECORDS:

By individual name, Social Security Number, Candidate Identification Number, Employee Identification Number, personal email address, respondent identification code, research project identifiers, postal assignment or vacancy/posting information, duty or pay location, or location where data were collected.

POLICIES AND PRACTICES FOR RETENTION AND DISPOSAL OF RECORDS:

1. Retention depends on the type of research project but does not exceed 10 years.

2. Data retained for surveys conducted by Customer insight, market research and survey records will be retained for 3 years.

3. Records for quick customer experience surveys administered on customer display units in Post Office locations will be retained for 3 fiscal years, representing the current fiscal year-to-date, plus the prior 2 fiscal years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer log-on identifications, and operating system controls, which includes access controls, terminal and transaction logging, and file management software.

RECORD ACCESS PROCEDURES:

Requests for access must be made in accordance with the Notification Procedure below and USPS Privacy Act regulations regarding access to records and verification of identity under 39 CFR 266.5.

CONTESTING RECORD PROCEDURES:

See Notification Procedure and Record Access Procedures.

NOTIFICATION PROCEDURES:

Individuals wanting to know if information about them is maintained in this system of records must address inquiries to the Vice President, Employee Resource Management, 475 L'Enfant Plaza SW, Washington, DC 20260.

In cases of studies involving information not collected through an examination, individuals must address inquiries to the system manager. Inquiries must contain full name; Candidate Identification Number, Employee Identification Number, or respondent identification code, and subject or purpose of research/survey; and date and location of their participation.

EXEMPTIONS PROMULGATED FOR THE SYSTEM:

Pursuant to 5 U.S.C. 552a(j) and (k), USPS has established regulations at 39 CFR 266.9 that exempt records in this system depending on their purpose. The USPS has also claimed exemption from certain provisions of the Act for several of its other systems of records at 39 CFR 266.9. To the extent that copies of exempted records from those other systems are incorporated into this system, the exemptions applicable to the original primary system continue to apply to the incorporated records.

HISTORY:

July 5, 2022: 87 FR 39876; July 19, 2013: 78 FR 43247; June 17, 2011: 76 FR 35483; and April 29, 2005: 70 FR 22516.

* * * * *

Sarah Sullivan,
Attorney, Ethics and Legal Compliance.

[FR Doc. 2022-28588 Filed 1-3-23; 8:45 am]

BILLING CODE P